DEPARTMENT OF HEALTH AND HUMAN SERVICES

Administration for Children and Families

Submission for OMB Review; Comment Request

Proposed Projects

Title: Hispanic Healthy Marriage Initiative Grantee Implementation Evaluation.

OMB No.: New Collection.

Description: The Administration for Children and Families (ACF), in partnership with the Office of the Assistant Secretary for Planning, Research and Evaluation (ASPE), U.S. Department of Health and Human Services, is proposing an information collection activity as part of the Hispanic Healthy Marriage Initiative (HHMI) Grantee Implementation Evaluation study. The proposed information collection consists of two components: (1) Semistructured interviews with key respondents involved with selected marriage education programs serving Hispanic couples and individuals; and (2) focus groups with Hispanic individuals and couples participating in selected marriage education programs or declining to participate in such programs. Through this information collection and other study activities, ACF and ASPE seek to identify the unique cultural needs of Hispanic couples and families that have implications for the design and delivery of healthy marriage education services to Hispanics, recognizing their diversity with respect to country of origin, language, and level of acculturation, among other factors.

Respondents: Marriage education program directors and managers; staff responsible for outreach, recruitment and intake activities in marriage education programs; marriage education instructors; and key persons in partner organizations.

Annual Burden Estimates
Instrument | Number of respondents | Number of responses per respondent | Average burden hours per response | Total burden hours
Program Staff Discussion Guide | 81 | 1 | 2 | 162
Partners/Community Leaders Discussion Guide | 54 | 1 | 2 | 108
Participant Focus Group Discussion Guide | 180 | 1 | 1 | 180
Estimated Total Annual Burden Hours |  |  |  | 450

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: December 11, 2008.
Steven M. Hanmer,
OPRE Reports Clearance Officer.

[FR Doc. E8-30172 Filed 12-19-08; 8:45 am]

BILLING CODE 4184-01-M